POSTAL SERVICE

Board of Governors; Sunshine Act Meeting

DATES AND TIMES: Tuesday, March 23, 2010, at 10 a.m.; Wednesday, March 24, at 8:30 a.m. and 11 a.m.

PLACE: Washington, DC at U.S. Postal Service Headquarters, 475 L'Enfant Plaza, SW., in the Benjamin Franklin Room.

STATUS: March 23 at 10 a.m.—Closed; Wednesday, March 24 at 8:30 a.m.—Open; and 11 a.m.—Closed.

Matters To Be Considered

Tuesday, March 23 at 10 a.m. (Closed)

1. Strategic Issues.

2. Pricing.

3. Financial Matters.

4. Personnel Matters and Compensation Issues.

5. Governors' Executive Session—Discussion of prior agenda items and Board Governance.

Wednesday, March 24 at 8:30 a.m. (Open)

1. Approval of Minutes of Previous Meetings.

2. Remarks of the Chairman of the Board.

3. Remarks of the Postmaster General and CEO.

4. Amendments to Board Bylaws.

5. Appointment of Committee Members and Committee Reports.

6. Financial Update.

7. Inspector General Report on USPS Share of CSRS Pension Responsibility.

8. Quarterly Report on Service Performance.

9. Five-Day Delivery Plan.

10. Tentative Agenda for the May 4-6, 2010, meeting in Washington, DC.

Wednesday, March 24 at 11 a.m. (Closed—if Needed)

1. Continuation of Tuesday's closed session agenda.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2010-5607 Filed 3-10-10; 4:15 pm]

BILLING CODE 7710-12-P